DEPARTMENT OF COMMERCE

International Trade Administration

[A-570-053]

Certain Aluminum Foil From the People's Republic of China: Amended Final Results of Antidumping Duty Administrative Review; 2017-2019

AGENCY: Enforcement and Compliance, International Trade Administration, Department of Commerce.

SUMMARY: The Department of Commerce (Commerce) is amending the final results of the administrative review of the antidumping duty (AD) order on certain aluminum foil (aluminum foil) from the People's Republic of China (China) to correct ministerial errors.

DATES: Applicable April 2, 2021.

FOR FURTHER INFORMATION CONTACT: Chelsey Simonovich or Michael J. Heaney AD/CVD Operations, Office VI, Enforcement and Compliance, International Trade Administration, U.S. Department of Commerce, 1401 Constitution Avenue NW, Washington, DC 20230; telephone: (202) 482-1979 or (202) 482-4475, respectively.

SUPPLEMENTARY INFORMATION:

Background

On February 25, 2021, Commerce published the Final Results of the 2017-2019 administrative review of aluminum foil from China in the Federal Register.¹ On February 24, 2021, Dingsheng Aluminium Industries (Hong Kong) Trading Co., Limited (Dingsheng Aluminium Industries (Hong Kong) Trading Co., Ltd.) (HK Dingsheng) and Hangzhou Dingsheng Import & Export Co., Ltd. (Hangzhou Dingsheng Import and Export Co., Ltd.) (Hangzhou Dingsheng IE) (collectively, Dingsheng), alleged the existence of a ministerial error in Commerce's Final Results.² On March 1, 2021, the Aluminum Association Trade Enforcement Working Group and its individual members (collectively, the petitioners),³ also alleged the existence of a ministerial error in Commerce's Final Results.⁴ On March 4, 2021, Xiamen Xiashun Aluminum Foil Co., Ltd. (Xiashun), a respondent party in this administrative review, filed rebuttal comments to the petitioners' ministerial allegations.⁵

¹ See Certain Aluminum Foil from the People's Republic of China: Final Results of Antidumping Duty Administrative Review; Final Determination of No Shipments; 2017-2019, 86 FR 11499 (February 25, 2021) (Final Results).

² See Dingsheng's Letter, “GDLSK Respondents Request for Correction of Clerical Error in the Final Results including Customs Instructions: First Administrative Review of the Antidumping Duty Order on Aluminum Foil from the People's Republic of China (A-570-053),” dated February 24, 2021.

³ The individual members of the Aluminum Association Trade Enforcement Working Group are: JW Aluminum Company, Novelis Corporation, and Reynolds Consumer Products LLC.

⁴ See Petitioners' Letter, “1st Administrative Review of the Antidumping Duty Order on Certain Aluminum Foil from the People's Republic of China—Petitioners' Ministerial Error Comments,” dated March 1, 2021.

⁵ See Xiashun's Letter, “Aluminum Foil from the People's Republic of China: Response to Ministerial Error Comments,” dated March 4, 2021.

Legal Framework

A ministerial error, as defined in section 751(h) of the Tariff Act of 1930, as amended (the Act), includes “errors in addition, subtraction, or other arithmetic function, clerical errors resulting from inaccurate copying, duplication, or the like, and any other type of unintentional error which the administering authority considers ministerial.” ⁶ With respect to final results of administrative reviews, 19 CFR 351.224(e) provides that Commerce “will analyze any comments received and, if appropriate, correct any ministerial error by amending . . . the final results of review.”

⁶ See 19 CFR 351.224(f).

Ministerial Error

Commerce committed inadvertent errors within the meaning of section 751(h) of the Act and 19 CFR 351.224(f) by incorrectly listing the names of HK Dingsheng and Hangzhou Dingsheng IE in the Final Results and failing to convert Xiashun's value-added tax (VAT) into the correct unit of measure. Accordingly, we determine, in accordance with section 751(h) of the Act and 19 CFR 351.224(f), that we made ministerial errors in the Final Results. Pursuant to 19 CFR 351.224(e), we are amending the Final Results to correct these errors. These corrections result in a change to Xiashun's weighted-average dumping margin and to the rate calculated for the respondents which are eligible for a separate rate, but that were not selected for individual examination. We have also corrected Dingsheng's company names below. For a detailed discussion of the ministerial error allegation, as well as Commerce's analysis, see Ministerial Error Memorandum.⁷

⁷ See Memorandum, “Antidumping Duty Administrative Review of Aluminum Foil from the People's Republic of China: Ministerial Error Memorandum,” dated concurrently with this notice (Ministerial Error Memorandum).

Amended Final Results of the Review

We are assigning the following weighted-average dumping margins to the firms listed below for the period November 2, 2017, through March 31, 2019:

Exporter | Weighted-average margin (percent)
Jiangsu Zhongji Lamination Materials Co., (HK) Ltd./Jiangsu Zhongji Lamination Materials Stock Co., Ltd./Jiangsu Zhongji Lamination Materials Co., Ltd./Jiangsu Huafeng Aluminum Industry Co., Ltd | 23.62
Xiamen Xiashun Aluminum Foil Co., Ltd | 48.64
Alcha International Holdings Limited | 36.13
Dingsheng Aluminium Industries (Hong Kong) Trading Co., Limited (Dingsheng Aluminium Industries (Hong Kong) Trading Co., Ltd.) | 36.13
Granges Aluminum (Shanghai) Co., Ltd | 36.13
Hangzhou Dingsheng Import&Export Co., Ltd. (Hangzhou Dingsheng Import and Export Co., Ltd.) | 36.13
Hunan Suntown Marketing Limited | 36.13
Jiangsu Alcha Aluminum Co., Ltd | 36.13
Shanghai Shenyan Packaging Materials Co | 36.13
SNTO International Trade Limited | 36.13
Suzhou Manakin Aluminum Processing Technology Co., Ltd | 36.13

For the respondents which are eligible for a separate rate, but were not selected for individual examination in this administrative review, we have assigned a margin based on the simple average of the dumping margins calculated for Zhongji and Xiashun, consistent with section 735(c)(3)(A) of the Act.

China-Wide Entity

Commerce's policy regarding conditional review of the China-wide entity applies to this administrative review.⁸ Under this policy, the China-wide entity will not be under review unless a party specifically requests, or Commerce self-initiates, a review of the entity. Because no party requested a review of the China-wide entity in this review, the entity is not under review and the entity's rate (i.e., 105.80 percent) is not subject to change.⁹

⁸ See Antidumping Proceedings: Announcement of Change in Department Practice for Respondent Selection in Antidumping Duty Proceedings and Conditional Review of the Nonmarket Economy Entity in NME Antidumping Duty Proceedings, 78 FR 65963 (November 4, 2013).

⁹ See Certain Aluminum Foil from the People's Republic of China: Amended Final Determination of Sales at Less Than Fair Value and Antidumping Duty Order, 83 FR at 17363 (April 19, 2018) (Order).

Assessment Rates

Commerce shall determine, and U.S. Customs and Border Protection (CBP) shall assess, antidumping duties on all appropriate entries of subject merchandise in accordance with section 751(a)(2)(C) of the Act and 19 CFR 351.212(b). In accordance with 19 CFR 351.212(b)(1), we have calculated importer-specific assessment rates for merchandise subject to this review. We calculated importer (or customer)-specific assessment rates for merchandise subject to this review on a per-unit (i.e., per-kilogram) basis. Specifically, we calculated a per-unit assessment rate by aggregating the antidumping duties due for all U.S. sales to that importer (or customer) and divided this amount by the total quantity sold to that importer (or customer) during the POR. To determine whether the duty assessment rates are de minimis, in accordance with the requirement set forth in 19 CFR 351.106(c)(2), we calculate importer—(or customer-) specific ad valorem ratios based on the estimated entered value. If an importer (or customer)-specific assessment rate is de minimis (i.e., less than 0.50 percent), Commerce will instruct CBP to liquidate that importer's (or customer's) entries of subject merchandise without regard to antidumping duties.

Consistent with its recent notice,¹⁰ Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

¹⁰ See Notice of Discontinuation of Policy to Issue Liquidation Instructions After 15 Days in Applicable Antidumping and Countervailing Duty Administrative Proceedings, 86 FR 3995 (January 15, 2021).

Cash Deposit Requirements

The following cash deposit requirements will be effective upon publication of the amended final results of this administrative review for shipments of the subject merchandise from China entered, or withdrawn from warehouse, for consumption on or after the publication date, as provided by section 751(a)(2)(C) of the Act: (1) For Xiashun and Zhongji and for each of the companies identified above as eligible for a separate rate, the cash deposit rate will be equal to the weighted-average dumping margin established in the amended final results of this review; (2) for previously investigated or reviewed Chinese and non-Chinese exporters not listed above that have received a separate rate in a prior segment of this proceeding, the cash deposit rate will continue to be the existing exporter-specific cash deposit rate published for the completed segment of the most recent period; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Notification to Importers

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Orders

This notice also serves as a final reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order is hereby requested. Failure to comply with the regulations and terms of an APO is a violation which is subject to sanction.

Notification to Interested Parties

This amended notice is issued and published in accordance with sections 751(h) and 777(i) of the Act.

Dated: March 29, 2021.
Christian Marsh,
Acting Assistant Secretary for Enforcement and Compliance.

Appendix

List of Topics Discussed in the Ministerial Error Memorandum

I. Summary

II. Scope of the Order

III. Legal Authority

IV. Discussion of the Issues

Comment 1: HK Dingsheng and Hangzhou Dingsheg IE Company Names

Comment 2: Xiashun VAT Conversion

V. Recommendation

[FR Doc. 2021-06840 Filed 4-1-21; 8:45 am]

BILLING CODE 3510-DS-P